ENVIRONMENTAL PROTECTION AGENCY

[OECA-2002-0014; FRL-7457-4]

Agency Information Collection Activities; Submission of EPA ICR No. 1900.02 (OMB No. 2060-0423) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: NSPS: Small Municipal Waste Combustors (40 CFR part 60, subpart AAAA) (OMB Control No. 2060-0423, EPA ICR No. 1900.02) The ICR, which is abstracted below, describes the nature of the information collection and its estimated burden and cost.

DATES: Additional comments may be submitted on or before April 7, 2003.

ADDRESSES: Follow the detailed instructions in the SUPPLEMENTARY INFORMATION.

FOR FURTHER INFORMATION CONTACT: Joyce Chandler, Compliance Assistance and Sector Program, Office of Enforcement & Compliance Assurance, Mailcode 2224A, Environmental Protection Agency, 1200 Pennsylvania Ave., NW., Washington, DC 20460; telephone number: (202) 564-7073; fax number: (202) 564-0009; e-mail address: chandler.joyce@epa.gov. Refer to EPA ICR Number 1900.02.

SUPPLEMENTARY INFORMATION: EPA has submitted the following ICR to OMB for review and approval according to the procedures prescribed in 5 CFR 1320.12. On June 20 (67 FR 41981), EPA sought comments on this ICR pursuant to 5 CFR 1320.8(d). EPA received no comments.

EPA has established a public docket for this ICR under Docket ID No. OECA-2002-0014, which is available for public viewing at the Enforcement & Compliance Docket and Information Center (ECDIC) in the EPA Docket Center (EPA/DC), EPA West Building, Room B102, 1301 Constitution Ave., NW., Washington, DC. The EPA Docket Center Public Reading Room is open from 8:30 a.m. to 4:30 p.m., Monday through Friday, excluding legal holidays. The telephone number for the Reading Room is (202) 566-1744, and the telephone number for the ECDIC Docket is (202) 566-1514. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following instructions: (1) Submit your comments to EPA online using EDOCKET (our preferred method), by e-mail to ECDIC at docket.oeca@epa.gov, or by mail to: EPA Docket Center, Environmental Protection Agency, Mailcode: 2201T, 1200 Pennsylvania Ave., NW., Washington, DC 20460, and (2) Mail your comments to OMB at: Office of Information and Regulatory Affairs, Office of Management and Budget (OMB), attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NSPS: Small Municipal Waste Combustors (40 CFR part 60, subpart AAAA) (OMB Control No. 2060-0423, EPA ICR Number 1900.02). This is a request to renew an existing approved collection that is scheduled to expire on February 28, 2003. Under the OMB regulations, the Agency may continue to conduct or sponsor the collection of information while this submission is pending at OMB.

Abstract: This addresses information collection activities that would be imposed by the NSPS: Small Municipal Waste Combustors, 40 CFR part 60, subpart AAAA. This information collection is required as a result of the implementation of the NSPS that are being developed under the authority of sections 111 and 129 of the Clean Air Act (CAA). Reporting and recordkeeping requirements would apply to MWC units that have the capacity to combust greater than 35 tons per day (tpd) but less than 250 tpd of municipal solid waste.

This ICR will enable EPA to monitor compliance with emission standards for regulated pollutants. Owners and operators of small MWCs are required to measure, record, and report emission rates and operating parameters, follow good combustion practices (GCP), and submit a siting analysis. The responses to this NSPS are mandatory.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 2,100 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Small MWCs that combust greater than 35 tons per day (tpd) but less than 250 tpd of municipal solid waste.

Estimated Number of Respondents: 6 plants with 2 small MWC units each.

Frequency of Response: Initial, Quarterly, Semi-annual, Annual.

Estimated Total Annual Hour Burden: 25,201 hours.

Estimated Total Annual Cost: $806,474, includes $200,000 annualized capital and $77,000 O&M costs.

Changes in the Estimates: There is a increase of 16,642 hours in the total estimated burden currently identified in the OMB Inventory of Approved ICR Burdens. This increase is due to the new small municipal waste combustors that have begun operating.

Dated: February 28, 2003.
Oscar Morales,
Director, Collection Strategies Division.

[FR Doc. 03-5311 Filed 3-5-03; 8:45 am]

BILLING CODE 6560-50-P